DEPARTMENT OF HOMELAND SECURITY

Coast Guard

33 CFR Part 117

[CGD07-06-011]

RIN 1625-AA09

Drawbridge Operation Regulations; Little River (S-20) Bridge, Atlantic Intracoastal Waterway Mile 347.3, Horry County, SC

AGENCY: Coast Guard, DHS.

ACTION: Notice of proposed rulemaking; withdrawal.

SUMMARY: The Coast Guard is withdrawing its notice of proposed rulemaking concerning the proposed change to the regulation of the Little River (S-20) Bridge. The requested change was to place a twenty minute regulation on the bridge in lieu of “on demand”. The withdrawal is based on limited vessel openings, comments received from the public, and the addition of a new high level fixed bridge within close proximity of the draw bridge which should help alleviate traffic congestion.

DATES: The notice of proposed rulemaking is withdrawn on May 15, 2007.

FOR FURTHER INFORMATION CONTACT: Mr. Barry Dragon, Project Officer, Seventh Coast Guard District, Bridge Branch, at (305) 415-6743.

SUPPLEMENTARY INFORMATION:

Background

On April 3, 2006, we published a notice of proposed rulemaking entitled “Drawbridge Operation Regulations; Little River (S-20) Bridge, Atlantic Intracoastal Waterway Mile 347.3, Horry County, SC” in the Federal Register (71 FR 16527). The rulemaking concerned changing the current “on demand” schedule to an on the hour, twenty minutes past the hour and forty minutes pass the hour schedule.

Withdrawal

A new high level fixed bridge was constructed within close proximity of the moveable bridge, thereby providing an alternative for existing traffic and allowing for a reduction of vehicular traffic on the moveable bridge. The Little-River Bridge crosses the Atlantic Intracoastal Waterway and has an average of fewer than two openings per hour. Additionally, all of the comments received during the comment period of the notice of proposed rulemaking were in favor of keeping the current “on demand” schedule.

Authority: This action is taken under the authority of 33 U.S.C. 499; Department of Homeland Security Delegation No. 0170.1; 33 CFR 1.05-1(g); section 117.255 also issued under the authority of Pub. L. 102-587, 106 Stat. 5039.

Dated: September 19, 2006.
J.A. Watson,
Captain, U.S. Coast Guard, Acting Commander, Seventh Coast Guard District.

Editorial Note: This document was received at the Office of the Federal Register on May 10, 2007.

[FR Doc. E7-9267 Filed 5-14-07; 8:45 am]

BILLING CODE 4910-15-P